DEPARTMENT OF TRANSPORTATION

Federal Highway Administration

Environmental Impact Statement: Travis County, TX

AGENCY: Federal Highway Administration (FHWA), DOT.

ACTION: Notice of Intent.

SUMMARY: Pursuant to 40 CFR 1508.22 and 43 TAC 2.5(e)(2), the FHWA and Texas Department of Transportation (TxDOT) are issuing this notice to advise the public that an Environmental Impact Statement (EIS) will be prepared for a proposed transportation project on United States Highway (US) 290 from State Highway (SH) 130 to Farm-to-Market Road (FM) 973, about 3.2 miles, in Travis County, Texas. Areas within the cities of Manor and Austin are included in the study area.

FOR FURTHER INFORMATION CONTACT: Mr. Salvador Deocampo, District Engineer, District A, Federal Highway Administration (FHWA), Texas Division, 300 East 8th Street, Rm 826, Austin, Texas 78701, Telephone 512-536-5950.

SUPPLEMENTARY INFORMATION: The proposed roadway is listed in the Capital Area Metropolitan Planning Organization (CAMPO) Mobility 2030 Plan (the long-range transportation plan) as a six-lane tolled freeway. The need for the US 290 project has resulted from rapid population growth in the project area and in surrounding areas in recent years, which is expected to further increase well into the foreseeable future. It is anticipated that this population growth will result in increased levels of vehicular traffic, with a corresponding increase in traffic accidents, a decrease in the roadway's traffic handling capability, and a decline in the functionality of the roadway as part of an area-wide transportation system. The purpose of the proposed project is to increase capacity and improve mobility in the roadway corridor while enhancing safety and system interconnectivity, in compliance with the adopted CAMPO Mobility 2030 Plan. The EIS will evaluate a range of alternatives, including the alternative of no action.

The EIS will evaluate potential impacts from construction and operation of the proposed roadway including, but not limited to, the following: Transportation impacts (construction detours, construction traffic, and mobility improvement), air quality and noise impacts from construction equipment and operation of the facilities, water quality impacts from construction area and roadway storm water runoff, impacts to waters of the United States including wetlands from right-of-way encroachment, impacts to historic and archeological resources, impacts to floodplains, and impacts and/or potential displacements to residents and businesses, land use, vegetation, wildlife, aesthetic and visual resources, socioeconomic resources, and cumulative impacts.

Public involvement is a critical component of the project development process and will occur throughout the planning and study phases. Public scoping meetings are planned, but have not yet been scheduled. The purpose of the public scoping meetings is to solicit public comments on the proposed action as part of the National Environmental Policy Act process. The scoping meetings, pursuant to Section 6002 of SAFETEA-LU will provide opportunities for participating agencies, cooperating agencies, and the public to be involved in review and comment on the draft coordination plan, defining the need and purpose for the proposed project, and determining the range of alternatives to be considered in the EIS. Letters describing the proposed action including a request for comments will be sent to appropriate federal, state, and local agencies and to private organizations and citizens who have previously expressed or are known to have interest in this proposal.

To ensure that the full range of issues related to this proposed action are addressed and all significant issues identified, comments, and suggestions are invited from all interested parties. Comments or questions concerning this proposed action and the EIS should be directed to the FHWA at the address provided above.

(Catalog of Federal Domestic Assistance Program Number 20.205, Highway Planning and Construction. The regulations implementing Executive Order 12372 regarding intergovernmental consultation on federal programs and activities apply to this program)

Issued on: August 13, 2007.
Salvador Deocampo,
District Engineer.

[FR Doc. 07-4024 Filed 8-16-07; 8:45 am]

BILLING CODE 4910-22-M